ENVIRONMENTAL PROTECTION AGENCY

40 CFR Part 141

[EPA-HQ-OW-2023-0541; FRL-11620-01-OW]

Expedited Approval of Alternative Test Procedures for the Analysis of Contaminants Under the Safe Drinking Water Act; Analysis and Sampling Procedures

Correction

In rule document 2024-1530 beginning on page 5773 in the issue of Tuesday, January 30, 2024, make the following corrections:

1. On page 5790, table “Alternative Testing Methods for Disinfectant Residuals Listed at 40 CFR 141.131(c)(1)” should have the column headings:

Residual | Methodology | SM 21st edition ¹ | SM 22nd edition,²⁸ SM 23rd edition,⁴⁹ SM 24th edition ⁶⁶ | ASTM ⁴ | Other

2. On the same page, table “Alternative Testing Methods for Parameters Listed at 40 CFR 141.131(d)” should have column headings that appear as follows:

Parameter | Methodology | SM 21st edition ¹ | SM 22nd edition ²⁸ | SM 23rd edition,⁴⁹ SM 24th edition ⁶⁶ | SM online ³ | EPA | Other

3. On the same page, table “Alternative Testing Methods for Contaminants Listed at 40 CFR 141.402(c)(2)” should have column headings that appear as follows:

Organism | Methodology | SM 20th edition ⁶ | SM 21st edition ¹ | SM 22nd edition ²⁸ | SM 23rd edition,⁴⁹ SM 24th edition ⁶⁶ | SM online ³ | Other

4. On the same page, table “Alternative Testing Methods for Contaminants Listed at 40 CFR 141.852(a)(5)” should have column headings that appear as follows:

Organism | Methodology category | Method | SM 20th, 21st editions ¹ ⁶ | SM 22nd edition ²⁸ | SM 23rd edition,⁴⁹ SM 24th edition ⁶⁶ | SM online ³

5. On page 5792, table “Alternative Testing Methods for Contaminants Listed at 40 CFR 143.4(b)” should have column headings that appear as follows:

Contaminant | Methodology | EPA method | ASTM ⁴ | SM 21st edition ¹ | SM 22nd edition,²⁸ SM 23rd edition,⁴⁹ SM 24th edition ⁶⁶ | SM online ³

6. On the same page, table “Alternative Testing Methods for Contaminants Listed at 40 CFR 143.4(b), the entry for Chloride should read as follows:

Chloride | Silver Nitrate Titration |  | D 512-04 B, 12 B | 4500-Cl−B | 4500-Cl−B
| Ion Chromatography |  | D 4327-11, -17 | 4110 B | 4110 B
| Potentiometric Titration |  |  | 4500-Cl−D | 4500-Cl−D

7. On the same page, in the same table, the entry for Sulfate should read as follows:

Sulfate | Ion chromatography |  | D 4327-11, -17 | 4110 B | 4110 B
| Gravimetric with ignition of residue |  |  | 4500-SO4²⁻ C | 4500-SO4²⁻ C | 4500-SO4²⁻ C-97.
| Gravimetric with drying of residue |  |  | 4500-SO4²⁻ D | 4500-SO4²⁻ D | 4500-SO4²⁻ D-97.
| Turbidimetric method |  | D 516-07, 11, 16 | 4500-SO4²⁻ E | 4500-SO4²⁻ E | 4500-SO4²⁻ E-97.
| Automated methylthymol blue method |  |  | 4500-SO4²⁻ F | 4500-SO4²⁻ F | 4500-SO4²⁻ F-97.

[FR Doc. C1-2024-01530 Filed 2-2-24; 8:45 am]

BILLING CODE 1505-01-D